DEPARTMENT OF ENERGY

Federal Energy Regulatory Commission

[Docket No. OA08-62-000]

California Independent System; Operator Corporation; Notice of FERC Staff Attendance

October 2, 2008.

The Federal Energy Regulatory Commission (Commission) hereby gives notice that on October 3, 2008, members of its staff will participate in a meeting to be conducted by the California Independent System Operator (CAISO) regarding the CAISO's transmission planning standards agreement. The information and documents for the meeting can be obtained from Judi Sanders, jsanders@caiso.com.

Sponsored by the CAISO, this meeting is open to all market participants, and staff's participation is part of the Commission's ongoing outreach efforts. This meeting may discuss matters at issue in the above captioned docket.

For further information, contact Saeed Farrokhpay at saeed.farrokhpay@ferc.gov; (916) 294-0233 or Maury Kruth at maury.kruth@ferc.gov, (916) 294-0275.

Nathaniel J. Davis, Sr.,
Deputy Secretary.

[FR Doc. E8-23937 Filed 10-8-08; 8:45 am]

BILLING CODE 6717-01-P